DEPARTMENT OF ENERGY

Environmental Management Advisory Board

AGENCY: Department of Energy.

ACTION: Notice of open meeting.

SUMMARY: This notice announces a meeting of the Environmental Management Advisory Board. The Federal Advisory Committee Act (Pub. L. 92-463, 86 Stat. 770) requires that public notice of these meetings be announced in the Federal Register.

DATES: Tuesday, April 17, 2001 and Wednesday, April 18, 2001.

ADDRESSES: U.S. Department of Energy, Forrestal Building, 1000 Independence Avenue, SW., (Room 1E-245), Washington, DC 20585.

FOR FURTHER INFORMATION CONTACT: James T. Melillo, Executive Director of the Environmental Management Advisory Board, (EM-10), 1000 Independence Avenue, SW., (Room 5B-161), Washington, DC 20585. The telephone number is 202-586-4400. The Internet address is james.melillo@em.doe.gov.

SUPPLEMENTARY INFORMATION: The purpose of the Board is to provide the Assistant Secretary for Environmental Management (EM) with advice and recommendations on issues confronting the Environmental Management Advisory Program from the perspective of affected groups, as well as state, local, and tribal governments. The Board will contribute to the effective operation of the Environmental Management Program by providing individual citizens and representatives of interested groups an opportunity to present their views on issues facing the Office of Environmental Management and by helping to secure consensus recommendations on those issues.

Preliminary Agenda

Tuesday, April 17, 2001

1:00 p.m. Public Meeting Opens

—Approve Minutes of October 12-13, 2000 Meeting

Opening Remarks

Ad hoc Committee on Science & Innovation—Status Report/Briefing

Technology Development & Transfer Committee—Report/Briefing/Resolution

Science Committee—Briefing/Resolution

Long-Term Stewardship Committee—Status Report

Ad hoc Committee on Safety and Technology—Briefing

Contracting & Management Committee—Status Report

Worker Health & Safety—Status Report

Alternatives to Incineration Committee—Status Report

5:15 p.m. Public Comment Period and Adjournment

Wednesday, April 18, 2001

8:30 a.m. Opening Remarks

FY 2002 Budget Overview Board Discussions—Work Plan Development

EM Disposition Mapping

Public Comment Period

Board Business—Approval of Resolutions—New Business—Board Calendar

Public Comment Period

Adjournment

Public Participation

This meeting is open to the public. If you would like to file a written statement with the Board, you may do so either before or after the meeting. If you would like to make an oral statement regarding any of the items on the agenda, please contact Mr. Melillo at the address or telephone number listed above, or call the Environmental Management Advisory Board office at 202-586-4400, and we will reserve time for you on the agenda. You may also register to speak at the meeting on April 17-18, 2001, or ask to speak during the public comment period. Those who call in and or register in advance will be given the opportunity to speak first. Others will be accommodated as time permits. The Board Chairs will conduct the meeting in an orderly manner.

Transcript and Minutes

We will make the minutes of the meeting available for public review and copying by June 17, 2001. The minutes and transcript of the meeting will be available for viewing at the Freedom of Information Public Reading Room (1E-190) in the Forrestal Building, U.S. Department of Energy, 1000 Independence Avenue, SW., Washington, DC 20585. The Public Reading Room is open Monday through Friday from 9:00 a.m.-4:00 p.m. except on Federal holidays.

Issued in Washington, DC on March 20, 2001.
Rachel M. Samuel,
Deputy Advisory Committee Management Officer.

[FR Doc. 01-7391 Filed 3-23-01; 8:45 am]

BILLING CODE 6450-01-P